DEPARTMENT OF AGRICULTURE

Federal Crop Insurance Corporation

7 CFR Part 457

[Docket ID FCIC-23-0004]

RIN 0563-AC83

Actual Production History (APH) and Other Crop Insurance Transparency; Corrections

AGENCY: Federal Crop Insurance Corporation, U.S. Department of Agriculture (USDA).

ACTION: Correcting amendment.

SUMMARY: On August 30, 2023, the Federal Crop Insurance Corporation corrected the Common Crop Insurance Policy (CCIP) Basic Provisions, Arizona-California Citrus Crop Insurance Provisions, California Avocado Crop Insurance Provisions, Macadamia Nut Crop Insurance Provisions, and the Texas Citrus Fruit Crop Insurance Provisions. In reviewing the changes made, FCIC found incorrect crop years in the Crop Provisions. This document makes the corrections.

DATES: Effective October 11, 2023.

FOR FURTHER INFORMATION CONTACT: Francie Tolle; telephone (816) 926-7730; email francie.tolle@usda.gov. Persons with disabilities who require alternative means of communication should contact the USDA Target Center at (202) 720-2600 or (844) 433-2774.

SUPPLEMENTARY INFORMATION:

Background

On August 30, 2023, a correction to the “Actual Production History (APH) and Other Crop Insurance Transparency” was published at 88 FR 59789 revising several references to subpart G and production reporting requirements for producers to report “current” year production rather than “previous” year production in various Crop Provisions. That correction inadvertently failed to revise the applicable crop year in the introductory text of the Arizona-California Citrus, California Avocado, Macadamia Nut and Texas Citrus Fruit Crop Provisions. This document makes those corrections.

List of Subjects in 7 CFR Part 457

Acreage allotments, Crop insurance, Reporting and recordkeeping requirements.

Accordingly, 7 CFR part 457 is corrected by making the following amendments:

PART 457—COMMON CROP INSURANCE REGULATIONS

1. The authority citation for part 457 continues to read as follows:

Authority: 7 U.S.C. 1506(l), 1506(o).

§ 457.119 [Amended]

2. Amend § 457.119 in the introductory text by removing the year “2024” and adding “2025” in its place.

§ 457.121 [Amended]

3. Amend § 457.121 in the introductory text by removing the year “2024” and adding “2025” in its place.

§ 457.131 [Amended]

4. Amend § 457.131 in the introductory text by removing the year “2024” and adding “2025” in its place.

§ 457.175 [Amended]

5. Amend § 457.175 in the introductory text by removing the year “2024” and adding “2025” in its place.

Delores Dean,
Acting Manager, Federal Crop Insurance Corporation.

[FR Doc. 2023-22469 Filed 10-10-23; 8:45 am]

BILLING CODE 3410-08-P